DEPARTMENT OF TRANSPORTATION

Federal Aviation Administration

14 CFR Part 71

[Docket No. FAA-2007-0162; Airspace Docket No. 07-AEA-13]

Establishment of Class E Airspace; Marienville, PA

AGENCY: Federal Aviation Administration (FAA), DOT.

ACTION: Final rule; confirmation of effective date, correction.

SUMMARY: This action confirms the effective date and makes a correction to the direct final rule published in the Federal Register January 30, 2008, that establishes controlled airspace at Marienville, PA (73 FR 5431), Docket No. FAA-2007-0162. In the airspace description, the wrong name was used for the Airport. This action corrects that error.

DATES: Effective 0901 UTC, June 12, 2008. The Director of the Federal Register approves this incorporation by reference action under Title 1, Code of Federal Regulations, part 51, subject to the annual revision of FAA Order 7400.9 and publication of conforming amendments.

FOR FURTHER INFORMATION CONTACT: Daryl Daniels, Airspace Specialist, System Support, AJO2-E2B.12, FAA Eastern Service Center, 1701 Columbia Ave., College Park, GA 30337; telephone (404) 305-5581; fax (404) 305-5572.

SUPPLEMENTARY INFORMATION:

History

A direct final rule published in the Federal Register January 30, 2008, established controlled airspace at Marienville, PA (73 FR 5431). In that rule, airspace was established to serve a landing site at the local high school to accommodate medical helicopter operations. After publication, an error was found in the name of the landing area. The landing area's name was printed as “East Marien High School Heliport”, and should have been listed as “East Forest Junior/Senior High School Airport”. This action corrects that error.

Confirmation of Effective Date

The FAA uses the direct final rulemaking procedure for a noncontroversial rule where the FAA believes that there will be no adverse public comment. This direct final rule advised the public that no adverse comments were anticipated, and that unless a written adverse comment, or a written notice of intent to submit such an adverse comment were received within the comment period, the regulation would become effective on April 10, 2008. The FAA also advised that a “Confirmation of Effective Date” docket would be published in the Federal Register after the comment period ended as verification that no adverse comments were received and confirming the effective date of the Rule. No adverse comments were received and this document verifies that effective date.

Correction

Pursuant to the authority delegated to me, the publication in the Federal Register dated January 30, 2008 (73 FR 5431), Federal Register Docket No. FAA-2007-0162, on page 5432, column 2, line 23 and line 31, is corrected to read:

East Forest Junior/Senior High School Airport

* * * * *

Issued in College Park, GA on April 25, 2008.
Mark D. Ward,
Manager, Operations Support Group, Eastern Service Center, Air Traffic Organization.

[FR Doc. E8-12787 Filed 6-11-08; 8:45 am]

BILLING CODE 4910-13-M